DEPARTMENT OF HEALTH AND HUMAN SERVICES

Administration for Children and Families

Proposed Information Collection Activity; Comment Request; Proposed Project

Title: Compassion Capital Fund Impact Evaluation Process Study.

OMB No.: New Collection.

Description: The information collection activity proposed under this notice will obtain information about intermediary grantee agencies providing capacity building assistance to faith-based and community organizations under the Compassion Capital Fund (CCF) Demonstration program. The information gathered under this data collection activity will be used to describe the approach and methods used by intermediaries to provide the services that are being evaluated in the CCF impact evaluation. Information collection will be through informal discussions and observations on-site at the organizations, using uniform protocols.

Respondents: Directors and staff providing technical assistance and related services to faith-based and community organizations and directors and staff in faith-based and community organizations that have received capacity building assistance.

Annual Burden Estimates
Instrument | Number of respondents | Number of responses per respondent | Average burden hours per response | Total burden hours
Intermediary Protocol for Executive Director | 10 | 1 | 3 | 30
Intermediary Protocol for Key Staff | 30 | 1 | 1 | 30
Faith-based or Community Organization Protocol for Executive Director | 30 | 1 | 2 | 60
Faith-based or Community Organization Protocol for Key Staff | 60 | 1 | 1 | 60

Estimated Total Annual Burden Hours: 180.

In compliance with the requirements of Section 3506(c)(1)(A) of the Paperwork Reduction Act of 1995, the Administration for Children and Families is soliciting public comment on the specific aspects of the information collection described above. Copies of the proposed collection of information can be obtained and comments may be forwarded by writing to the Administration for Children and Families, Office of Administration, Office of Information Services, 370 L'Enfant Promenade, SW., Washington, DC 20447. Attn: ACF Reports Clearance Officer. E-mail address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents. Consideration will be given to comments and suggestions submitted within 60 days of this publication.

Dated: October 10, 2007.
Brendan C. Kelly,
Reports Clearance Officer.

[FR Doc. 07-5176 Filed 10-19-07; 8:45 am]

BILLING CODE 4184-01-M